DEPARTMENT OF TRANSPORTATION

Federal Transit Administration

Limitation on Claims Against a Proposed Public Transportation Project

AGENCY: Federal Transit Administration (FTA), DOT.

ACTION: Notice.

SUMMARY: This notice announces final environmental actions taken by the Federal Transit Administration (FTA) for a project in Bucks County, PA, and Mercer County, NJ. The purpose of this notice is to announce publicly the environmental decisions by FTA on the subject project and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before July 21, 2014.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation project listed below. The actions on the project, as well as the laws under which such actions were taken, are described in the documentation issued in connection with the project to comply with the National Environmental Policy Act (NEPA) and in other documents in the FTA administrative record for the project. Interested parties may contact either the project sponsor or the relevant FTA Regional Office for more information on the project. Contact information for FTA's Regional Offices may be found at http://www.fta.dot.gov.

This notice applies to all Federal agency decisions on the listed project as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The project and actions that are the subject of this notice are:

Project name and location: SEPTA-CSX Separation Project on the West Trenton Regional Rail Line, Bucks County, PA, and Mercer County, NJ. Project sponsor: Southeastern Pennsylvania Transportation Authority (SEPTA). Project description: The proposed project will separate SEPTA commuter rail operations and CSX freight operations on a six-mile segment of railroad where the northern end of SEPTA's West Trenton Regional Rail Line operates over CSX's Trenton Subdivision or Line, a main north-south freight corridor. In addition, the project includes the reinstallation of a track and interlocking removed decades ago within the existing railroad right-of-way. Final agency actions: Section 106 finding of no adverse effect and determination of categorical exclusion. Supporting documentation: Categorical exclusion pursuant to 23 CFR 771.118(c)(8), dated January 13, 2014.

Issued On: February 12, 2014.
Elizabeth S. Riklin,
Acting Associate Administrator Planning and Environment.

[FR Doc. 2014-03597 Filed 2-19-14; 8:45 am]

BILLING CODE P